SECURITIES AND EXCHANGE COMMISSION

[File No. 500-1]

In The Matter of Oxford City Football Club, Inc.; Order of Suspension of Trading

December 11, 2015.

Oxford City Football Club, Inc., (“Oxford City”) is a Florida corporation with principal place of business listed as Deerfield Beach, Florida. Its stock is quoted on the OTCBB and OTC Link using the ticker symbol “OXFC.” It appears to the Securities and Exchange Commission that there is a lack of current and accurate information concerning the securities of Oxford City because of questions regarding the accuracy of assertions by Oxford City and its CEO Thomas A. Guerriero, and by others, in press releases and other statements to investors concerning, among other things: (1) The company's assets; (2) projections for the company's income; (3) the nature of the company's management; and (4) other general corporate plans and information.

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 11, 2015, through 11:59 p.m. EST on December 24, 2015.

By the Commission.
Brent J. Fields,
Secretary.

[FR Doc. 2015-31597 Filed 12-11-15; 11:15 am]

BILLING CODE 8011-01-P